DEPARTMENT OF THE INTERIOR

National Park Service

[NPS-WASO-NAGPRA-NPS0026446; PPWOCRADN0-PCU00RP14.R50000]

Notice of Inventory Completion: The Field Museum, Chicago, IL

AGENCY: National Park Service, Interior.

ACTION: Notice.

SUMMARY: The Field Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Field Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Field Museum at the address in this notice by November 19, 2018.

ADDRESSES: Helen Robbins, The Field Museum, 1400 South Lake Shore Drive, Chicago, IL 60605, telephone (312) 665-7317, email hrobbins@fieldmuseum.org.

SUPPLEMENTARY INFORMATION: Notice is here given in accordance with the Native American Graves Protection and Repatriation Act (NAGPRA), 25 U.S.C. 3003, of the completion of an inventory of human remains and associated funerary objects under the control of the Field Museum, Chicago, IL. The human remains and associated funerary objects were removed from Homolovi I and Homolovi II, Navajo County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Field Museum professional staff in consultation with representatives of the Hopi Tribe of Arizona and the Zuni Tribe of the Zuni Reservation, New Mexico.

History and Description of the Remains

In 1899, human remains representing, at minimum, 20 individuals were removed from Homolovi I in Navajo County, AZ. The individuals were excavated by J. A. Burt, an employee of the Field Museum, as part of an excavation occurring in the winter of 1899-1900 sponsored by the Museum. No known individuals were identified. The 24 associated funerary objects are two mugs, three vases, eight bowls, one selenite disc, one circular stone, one stalagmite piece, and eight points.

Homolovi I was occupied from around A.D. 1285 to 1390. Based on archeological research, scholarly research, consultation, and museum records, Homolovi I is affiliated with the Hopi Tribe of Arizona and the Zuni Tribe of the Zuni Reservation, New Mexico.

In 1899, human remains representing, at minimum, 33 individuals were removed from Homolovi II in Navajo County, AZ. The individuals were excavated by J. A. Burt, an employee of the Field Museum, as part of an excavation occurring in the winter of 1899-1900 sponsored by the Museum. No known individuals were identified. The 49 associated funerary objects are seven faunal remains, 29 bowls, four awls, one selenite sheet, one bone whistle, one bone bead, one ladle, two water vessels, two jars, and one cloth fragment. Homolovi II was occupied from around A.D. 1350 to 1400. Based on archeological research, scholarly research, consultation, and museum records, Homolovi II is affiliated with the Hopi Tribe of Arizona and the Zuni Tribe of the Zuni Reservation, New Mexico.

In 1899, human remains representing, at minimum, three individuals were removed from Homolovi I or Homolovi II in Navajo County, AZ. The individuals were excavated by J. A. Burt, an employee of the Field Museum, as part of an excavation occurring in the winter of 1899-1900 sponsored by the Museum. No known individuals were identified. No associated funerary objects are present.

Determinations Made by the Field Museum

Officials of the Field Museum have determined that:

• Pursuant to 25 U.S.C. 3001(9), the human remains described in this notice represent the physical remains of 56 individuals of Native American ancestry.

• Pursuant to 25 U.S.C. 3001(3)(A), the 73 objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona and the Zuni Tribe of the Zuni Reservation, New Mexico.

Additional Requestors and Disposition

Lineal descendants or representatives of any Indian Tribe or Native Hawaiian organization not identified in this notice that wish to request transfer of control of these human remains and associated funerary objects should submit a written request with information in support of the request to Helen Robbins, The Field Museum, 1400 South Lake Shore Drive, Chicago, IL 60605, telephone (312) 665-7317, email hrobbins@fieldmuseum.org, by November 19, 2018. After that date, if no additional requestors have come forward, transfer of control of the human remains and associated funerary objects to the Hopi Tribe of Arizona and the Zuni Tribe of the Zuni Reservation, New Mexico may proceed.

The Field Museum is responsible for notifying the Hopi Tribe of Arizona and the Zuni Tribe of the Zuni Reservation, New Mexico that this notice has been published.

Dated: September 6, 2018.
Melanie O'Brien,
Manager, National NAGPRA Program.

[FR Doc. 2018-22796 Filed 10-18-18; 8:45 am]

BILLING CODE 4312-52-P